DEPARTMENT OF COMMERCE

Foreign-Trade Zones Board

[Docket 14-2004]

Proposed Foreign-Trade Zone—Auburn, Maine; Application and Public Hearing

An application has been submitted to the Foreign-Trade Zones (FTZ) Board (the Board) by the Lewiston-Auburn Economic Growth Council (a Maine not-for-profit corporation), to establish a general-purpose foreign-trade zone in Auburn (Androscoggin County), Maine, within the Portland Customs port of entry. The FTZ application was submitted pursuant to the provisions of the FTZ Act, as amended (19 U.S.C. 81a-81u), and the regulations of the Board (15 CFR Part 400). It was formally filed on April 5, 2004. The applicant is authorized to make the proposal under Maine Revised Code 13062(D).

The proposed zone consists of 760 acres located principally at the Auburn/Lewiston Municipal Airport/Industrial Park complex, on Lewiston Junction Road in Auburn. In addition to the airport, the complex includes the Auburn Intermodal facility, as well as land planned for industrial park development. An additional site is located at 123 Rodman Road. The complex is owned by public and private companies, and the City of Auburn is in the process of acquiring the land needed to promote industrial development. The Rodman Road site is a privately-owned site.

The application indicates a need for zone services in the Lewiston-Auburn region. Several firms have indicated an interest in using zone procedures for warehousing/distribution activities. Specific manufacturing approvals are not being sought at this time. Requests would be made to the Board on a case-by-case basis.

In accordance with the Board's regulations, a member of the FTZ Staff has been designated examiner to investigate the application and report to the Board.

As part of the investigation, the Commerce examiner will hold a public hearing on May 11, 2004, at 1 p.m., Auburn City Hall, Council Chambers, 45 Spring Street, Auburn, ME 04210.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099—14th Street NW., Washington, DC 20005; or

2. Submissions via the U.S. Postal Service: Foreign-Trade Zones Board, U.S. Department of Commerce, FCB—Suite 4100W, 1401 Constitution Avenue NW., Washington, DC 20230.

The closing period for their receipt is June 14, 2004. Rebuttal comments in response to material submitted during the foregoing period may be submitted during the subsequent 15-day period (to June 28, 2004).

A copy of the application and accompanying exhibits will be available for public inspection at the Office of the Foreign-Trade Zones Board's Executive Secretary at the first address listed above, and at the Lewiston-Auburn Economic Growth Council, 95 Park Street, Suite 411, Lewiston, Me 04243.

Dated: April 5, 2004.
Dennis Puccinelli,
Executive Secretary.

[FR Doc. 04-8378 Filed 4-12-04; 8:45 am]

BILLING CODE 3510-DS-P